DEPARTMENT OF THE INTERIOR

National Park Service

National Register of Historic Places; Notification of Pending Nominations and Related Actions

Nominations for the following properties being considered for listing or related actions in the National Register were received by the National Park Service before August 19, 2006. Pursuant to section 60.13 of 36 CFR part 60 written comments concerning the significance of these properties under the National Register criteria for evaluation may be forwarded by United States Postal Service, to the National Register of Historic Places, National Park Service, 1849 C St. NW., 2280, Washington, DC 20240; by all other carriers, National Register of Historic Places, National Park Service, 1201 Eye St. NW., 8th floor, Washington DC, 20005; or by fax, 202-371-6447. Written or faxed comments should be submitted by September 20, 2006.

John W. Roberts,
Acting Chief, National Register/National Historic Landmarks Program.

DISTRICT OF COLUMBIA

Washington Heights Historic District, (Apartment Buildings in Washington, DC, MPS) Bounded by Columbia Rd., N.W., 19th St. N.W., 18th St. NW., and Florida Ave. NW., Washington, 06000875

INDIANA

St. Joseph County

Northside Boulevard Riverwall, (New Deal Work Relief Projects in St. Joseph County, Indiana MPS) 600-1100 Northside Blvd., South Bend, 06000877

Walker Field Shelterhouse, 1305 Ewing Ave., South Bend, 06000876

MARYLAND

Frederick County

Routzahn—Miller Farmstead, 9117 Frostown Rd., Middletown, 06000878

NEVADA

Washoe County

Robison House, 409 13th St., Sparks, 06000895

NEW JERSEY

Essex County

Hall Street School, 30 Hall St., Monroe Township, 06000879

NEW YORK

Broome County

Hawleyton Methodist Episcopal Church, Old, 923 Hawleyton Rd., Hawleyton, 06000893

Kilmer, Jonas M., House, 9 Riverside Dr., Binghamton, 06000885

Dutchess County

St. Margaret's Home, 7260 South Broadway, Red Hook, 06000883

Jefferson County

Adams Commercial Historic District, Main and North Main Sts. and portions of East and West Church Sts., Adams, 06000882

Livingston County

G.A.R. Memorial Hall, Main St., Hunt, 06000888

Hall's Opera Block, 15-19 Genesee St., Avon, 06000884

Monroe County

First Baptist Church of Fairport, 94 S. Main St., Fairport, 06000892

Jayne, William C., House, 183 E. Main St., Webster, 06000891

Saint Andrew's Episcopal Church, 95 Averill Ave., Rochester, 06000886

Nassau County

Bellerose Village Municipal Complex, 50 Superior Rd. and Magee Plaza, Bellerose, 06000889

Gould—Guggenheim Estate, 95 Middle Neck Rd., Port Washington, 06000881

Rockland County

Onderdonk House, 748 Piermont Ave., Piermont, 06000890

Saratoga County

Stillwater United Church, 135 Hudson Ave., Stillwater, 06000887

Schoharie County

Bunn—Tillapaugh Feed Mill, 2 High St., Richmondville, 06000894

Wyoming County

First Methodist Episcopal Church of Perry, 35 Covington St., Perry, 06000880

PUERTO RICO

Lares Municipality

Hacienda Los Torres, Jct. PR 111 and PR 129, Lares, 06000896

San Juan Municipality

Edificio Moragon, 354 Ponce de Leon Ave., San Juan, 06000897

VERMONT

Orleans County

Newport Downtown Historic District, Main, Coventry, Central, Secon, Summer, Third, School, Bayview, Eastern, Field, Seymour, Fyfe, Newport, 06000898

WEST VIRGINIA

Braxton County

Smith, Michael, House, End of Cty Rte 5/11, 1 mi. from jct. Cty Rte. 19/26, Cedarville, 06000902

Brooke County

Reeves, John C., House, 100 Reeves Dr., Wellsburg, 06000903

Cabell County

Elk River Coal and Lumber Company #10 Steam Locomotive, Jct. of Veteran's Memorial Blvd. and 11th St., Huntington, 06000901

Logan County

Chesapeake and Ohio 2755 Steam Locomotive, 500 ft. from jct. of Little Buffalo Creek Rd. and Park Rte. 801, Henlawson, 06000900

Monroe County

Miller—Pence Farm, 8 mi. W of Jct U.S. 219 and WV 122, Greenville, 06000899

WISCONSIN

Racine County

Racine Rubber Company Homes Historic District, Roughly bounded by Victory Ave., Republic Ave., Cleveland Ave. and West Boulevard, Racine, 06000904

A request for removal has been made for the following resource:

VIRGINIA

Norfolk Independent City

West, John T., School, 1435 Bolton St., Norfolk (Independent City), 00000315

[FR Doc. E6-14609 Filed 9-1-06; 8:45 am]

BILLING CODE 4312-51-P